DEPARTMENT OF LABOR

Employment and Training Administration

[TA-W-54,934]

Roseburg Forest Products, Plant 6, Coquille, OR; Notice of Termination of Investigation

Pursuant to section 221 of the Trade Act of 1974, as amended, an investigation was initiated on May 19, 2004, in response to a petition filed by a state agency representative on behalf of workers of Roseburg Forest Products, Plant 6, Coquille, Oregon.

The investigation revealed that the workers of the subject firm are covered by an existing certification, TA-W-51,429D, which remains in effect. Subsequently, further investigation would serve no purpose and the investigation has been terminated.

Signed at Washington, DC, this 15th day of June, 2004.
Linda G. Poole,
Certifying Officer, Division of Trade Adjustment Assistance.

[FR Doc. 04-15307 Filed 7-6-04; 8:45 am]

BILLING CODE 4510-30-P